DEPARTMENT OF TRANSPORTATION

Federal Aviation Administration

14 CFR Part 93

[Docket No. FAA-2011-1024]

High Density Traffic Airports; Notice of Determination Regarding Low Demand Periods at Ronald Reagan Washington National Airport

AGENCY: Department of Transportation, Federal Aviation Administration (FAA).

ACTION: Notice of agency determination.

SUMMARY: This action announces an FAA determination that 6 a.m. to 6:59 a.m. no longer is a low demand period at Ronald Reagan Washington National Airport (DCA). As a result of this determination, the FAA will allocate available slots in that period on a temporary basis subject to recall, and the FAA may conduct a lottery in the future to allocate available slots in that period.

DATES: September 21, 2011.

FOR FURTHER INFORMATION CONTACT: Robert Hawks, Office of the Chief Counsel, Federal Aviation Administration, 800 Independence Avenue, SW., Washington, DC 20591; telephone number: 202-267-7143; fax number: 202-267-7971; e-mail: rob.hawks@faa.gov.

SUPPLEMENTARY INFORMATION:

Background

The FAA issued the High Density Traffic Airports Rule (HDR), 14 CFR part 93 subpart K, in 1968 to reduce delays at five congested airports: John F. Kennedy International Airport, LaGuardia Airport, O'Hare International Airport, Ronald Reagan Washington National Airport (DCA), and Newark Liberty International Airport.¹ Currently, the HDR applies only to DCA. The regulation limits the number of operations during certain hours of the day and requires a slot, which the FAA allocates for a specific 60-minute period, for each scheduled operation.

¹ 33 FR 17896 (Dec. 3, 1968).

In 1985, the FAA issued part 93 subpart S (the “Buy/Sell Rule”).² As part of the Buy/Sell Rule, § 93.226 permits the administrative allocation of slots during low demand periods, which are 6 a.m. to 6:59 a.m. (the 0600 hour) and 10 p.m. to 11:59 p.m. (the 2200 and 2300 hours), on a first come, first served basis. Section 93.226(d) permits the FAA to determine those periods are no longer low demand periods and allocate any available slots by lottery under § 93.225. The FAA may make this determination when it becomes apparent that demand for slots is increasing to the point where a first come, first served allocation procedure is inappropriate.

² 50 FR 52195 (Dec. 20, 1985).

FAA Determination

Currently, the FAA has allocated all commuter and all but three air carrier slots in the 0600 hour. The FAA has allocated five daily commuter slots and two daily air carrier slots in the 0600 hour on a temporary basis subject to recall.

Because of the relatively small number of available slots in the 0600 hour, the FAA now determines that hour no longer is a low demand period. Further, permanent allocation of slots in that time period would undermine the new entrant and limited incumbent allocation priority under § 93.225. The FAA no longer will allocate slots during that time period on a permanent first come, first served basis.

The FAA further determines the present demand for available slots does not justify conducting a lottery at this time. Accordingly, the FAA will allocate slots in the 0600 hour on a temporary basis subject to recall by the FAA under § 93.226(e). However, if the FAA cannot accommodate future requests for slots, especially requests by new entrants or limited incumbents, through temporary allocations, the FAA may recall any temporarily allocated slots and conduct a lottery at that time.

Slots currently allocated are unaffected by this determination, and the HDR continues to apply to all allocated slots.

Issued in Washington, DC on September 15, 2011.
Rebecca B. MacPherson,
Assistant Chief Counsel for Regulations.

[FR Doc. 2011-24262 Filed 9-20-11; 8:45 am]

BILLING CODE 4910-13-P